SOCIAL SECURITY ADMINISTRATION

[Docket No. SSA-2025-0006]

Privacy Act of 1974; System of Records

AGENCY: Social Security Administration (SSA).

ACTION: Notice of a modified system of records.

SUMMARY: In accordance with the Privacy Act of 1974, we are issuing public notice of our intent to modify an existing system of records entitled, Hearings and Appeals Case Control System (60-0009), last published on October 13, 1982. This notice publishes details of the modified system as set forth under the caption, SUPPLEMENTARY INFORMATION.

DATES: The system of records notice (SORN) is applicable upon its publication in today's Federal Register, with the exception of the new routine uses, which are effective February 9, 2026.

We invite public comment on the routine uses or other aspects of this SORN. In accordance with the Privacy Act of 1974, the public is given a 30-day period in which to submit comments. Therefore, please submit any comments by February 9, 2026.

ADDRESSES: The public, Office of Management and Budget (OMB), and Congress may comment on this publication by writing to the Head of Privacy and Disclosure Policy, Law and Policy, SSA, Room G-401 West High Rise, 6401 Security Boulevard, Baltimore, Maryland 21235-6401, or through the Federal e-Rulemaking Portal at https://www.regulations.gov. Please reference docket number SSA-2025-0006. All comments we receive will be available for public inspection at the above address and we will post them to https://www.regulations.gov.

FOR FURTHER INFORMATION CONTACT: Tristin Dorsey, Government Information Specialist, Privacy Implementation Division, Privacy and Disclosure Policy, Law and Policy, SSA, Room G-401 West High Rise, 6401 Security Boulevard, Baltimore, Maryland 21235-6401, telephone: (410) 966-5855, email: OGC.OPD.SORN@ssa.gov.

SUPPLEMENTARY INFORMATION: We are modifying the system of records name from “Hearings and Appeals Case Control System, HHS/SSA/OHA” to “Hearings and Appeals Case Control System” to remove references to Health and Human Services (HHS) and accurately reflect the name of the system. We are modifying the system location to clarify where the agency will maintain records. We are modifying the system manager to clarify the offices responsible for maintaining the system. We are also expanding the purpose of the system to include tracking hearings and appeals office workloads from the receipt of a request for hearing until the final Appeals Council-level disposition, as well as certain specialized Appeals Council level workloads including Federal court required actions, quality review, and attorney fee actions. We are clarifying the categories of individuals covered by the system for easier reading.

We are expanding the categories of records to include the name and Social Security number of potential claimants and beneficiaries, information about the Administrative Appeals Judge and/or Appeals Officer assigned to the case, and appeals issue types. We are expanding the record source categories to include appointed representatives, representative payees, and existing SSA systems of records. We are clarifying the language in routine use Nos. 1, 2, 3, 4, and 6 for easier reading.

In addition, we are adding 13 new routine uses to permit disclosures to the following:

• The Secretary of HHS or to any State, the Commissioner shall disclose any record or information requested in writing by the Secretary for the purpose of administering any program administered by the Secretary, if records or information of such type were so disclosed under applicable rules, regulations and procedures in effect before the date of enactment of the Social Security Independence and Program Improvements Act of 1994.

• The Office of the President, in response to an inquiry received from that office made on behalf of, and at the request of, the subject of the record or a third party acting on the subject's behalf;

• Federal, State, and local law enforcement agencies and private contractors, to enable them to protect the safety of SSA employees and customers, the security of the SSA workplace, and the operation of our facilities, or to assist investigations or prosecutions with respect to activities that affect such safety and security, or activities that disrupt the operation of our facilities;

• third party contacts, (e.g., employers and private pension plans) in situations where the party to be contacted has, or is expected to have, information relating to the individual's capability to manage their benefits or payments, or their eligibility for or entitlement to benefits or eligibility for payments, under the Social Security program;

• third party contacts, where necessary, to establish or verify information provided by a representative payee or representative payee applicant;

• a Social Security beneficiary or claimant, when a claim is filed by an individual on the same record that is adverse to the beneficiary, only information concerning the facts relevant to the interests of each party in a claim;

• private medical and vocational consultants for consultative medical examinations and vocational assessments;

• claimants, prospective claimants (other than the data subject), and their appointed representatives and those working with such representatives (including, but not limited to, partners, associates, and contractors) when the information pertains to the individuals whom the appointed representative is representing; and to representative payees, when the information pertains to individuals for whom they serve as representative payees, for the purpose of assisting us in administering representative payment responsibilities under the Social Security Act, to the extent necessary to pursue Social Security claims, and for the purpose of assisting them in performing their duties as payees, including receiving and accounting for benefits for individuals for whom they serve as payees;

• contractors, cooperative agreement awardees, Federal and State agencies, and Federal congressional support agencies for research and statistical activities that are designed to increase knowledge about present or alternative Social Security programs; are of importance to the Social Security program or the Social Security beneficiaries; or are for an epidemiological project that relates to the Social Security program or beneficiaries;

• State and local government agencies, in situations involving suspected abuse, neglect, or exploitation of minor children or vulnerable adults, to report suspected abuse or determine a victim's eligibility for services;

• a representative (current or former), the executor of a deceased representative's estate or individual recognized by the State as the representative of the estate, an individual who provided representational services, the entity with which the representative or individual is or was affiliated through registration, or an individual or entity to which the agency disbursed a fee payment, to the extent necessary to dispose of a fee petition or fee agreement or resolve other fee-related issues in claims-related matters, but not to include pre-decisional deliberative documents, such as analyses and recommendations prepared for the decision-maker;

• third parties, limited information, as necessary, to reach claimants, beneficiaries, and others SSA has a business need to reach related to records in this system; and

• third parties when an individual involved with a request needs assistance to communicate because of a hearing impairment or a language barrier (e.g., to interpreters, telecommunications relay system operators).

Lastly, we are modifying the policies and practices for the storage of records to reflect that we will maintain records in paper and in electronic form. We are expanding the policies and practices for the retrieval of records to include name and folder number. We are clarifying the policies and practices for the retention and disposal of records to reflect accurate records schedules. We are modifying the administrative, technical, and physical safeguards for easier reading. We are modifying the notice throughout to correct miscellaneous stylistic formatting and typographical errors of the previously published notice, and to ensure the language reads consistently across multiple systems. We are republishing the entire notice for ease of reference.

In accordance with 5 U.S.C. 552a(r), we provided a report to OMB and Congress on this modified system of records.

Matthew Ramsey,
Head of Privacy and Disclosure, Law and Policy.

SYSTEM NAME AND NUMBER:

Hearings and Appeals Case Control System, 60-0009.

SECURITY CLASSIFICATION:

Unclassified.

SYSTEM LOCATION:

Social Security Administration, Disability Adjudication, Appellate Operations, 6401 Security Boulevard, Baltimore, MD 21235.

Social Security Administration, Disability Adjudication, Hearings Operations, 6401 Security Boulevard, Baltimore, MD 21235.

SSA Program Service Centers in receipt of claims (See Appendix A at https://www.ssa.gov/privacy/sorn/app_a.htm).

Appellate Operations and Hearings Operations organizations in receipt of cases awaiting action by the Appeals Council or cases awaiting hearings or decisions by Administrative Law Judges (See Appendix F at https://www.ssa.gov/privacy/sorn/app_f.htm for more information).

Information is also located in additional locations in connection with cloud-based services and kept at an additional location as backup for business continuity purposes.

SYSTEM MANAGER(S):

Social Security Administration, Chief of Disability Adjudication, Disability Adjudication, 6401 Security Boulevard, Baltimore, MD 21235-6401, (410) 966-5855.

AUTHORITY FOR MAINTENANCE OF THE SYSTEM:

Sections 205, 1631(d)(1), and 1872 of the Social Security Act, as amended, and section 413(b) of the Federal Coal Mine Health and Safety Act, as amended.

PURPOSE(S) OF THE SYSTEM:

We will use the information in this system of records to develop claims and management information about title II (Retirement, Survivor's, and Disability Insurance), title XVI (Supplemental Security Income), and title XVIII (Health Insurance). We will use the information to perform certain post-entitlement actions for Black Lung benefits, pursuant to the Federal Coal Mine Health and Safety Act. We will also use the information to track hearings and appeals office workloads, from the receipt of a request for hearing until the final Appeals Council-level disposition, as well as certain specialized Appeals Council-level workloads including Federal court required actions, quality review, and attorney fee actions.

CATEGORIES OF INDIVIDUALS COVERED BY THE SYSTEM:

This system maintains information about claimants who file for title II (Retirement, Survivor's, and Disability Insurance), title XVI (Supplemental Security Income), title XVIII (Health Insurance), and Black Lung benefits.

CATEGORIES OF RECORDS IN THE SYSTEM:

This system maintains records that include, but are not limited to, the name and Social Security number (SSN) of the claimant, potential claimant, or beneficiary; type of claim; hearing request receipt date; last action on the case and date of action; case location, e.g., pre-hearing, scheduling, hearing, post-hearing, disposition date, routing, and transfer; date of filing; scheduled hearing date; information about the administrative law judge assigned to the case; date of request for review; information about the Administrative Appeals Judge and/or Appeals Officer assigned to the case; cross reference SSN; appeals issue types (disability, non-disability, overpayments, and continuing disability reviews).

RECORD SOURCE CATEGORIES:

We obtain information in this system from claimants; beneficiaries; recipients; appropriate members of the public, including third parties that may have information relevant to the claim; local, State, and Federal agencies; appointed representatives; representative payees; contractors; and existing SSA systems of records such as the Claims Folders System, 60-0089; Electronic Disability Claim File, 60-0320; and Appointed Representative File, 60-0325.

ROUTINE USES OF RECORDS MAINTAINED IN THE SYSTEM, INCLUDING CATEGORIES OF USERS AND THE PURPOSES OF SUCH USES:

We will disclose records pursuant to the following routine uses; however, we will not disclose any information defined as “return or return information” under 26 U.S.C. 6103 of the Internal Revenue Code (IRC), unless authorized by statute, the Internal Revenue Service (IRS), or IRS regulations.

1. To a congressional office in response to an inquiry from that office made on behalf of, and at the request of, the subject of the record.

2. To the Department of Justice (DOJ), a court or other tribunal, or another party before such tribunal, when:

(a) SSA, or any component thereof; or

(b) any SSA employee in the employee's official capacity; or

(c) any SSA employee in the employee's individual capacity where DOJ (or SSA where it is authorized to do so) has agreed to represent the employee; or

(d) the United States or any agency thereof, where SSA determines the litigation is likely to affect SSA or any of its components, is a party to the litigation or has an interest in such litigation, and we determine that the use of such records by DOJ, a court or other tribunal, or another party before the tribunal is relevant and necessary to the litigation, provided, however, that in each case, we determine that such disclosure is compatible with the purpose for which the records were collected.

3. To contractors and other Federal agencies, as necessary, for assisting SSA in the efficient administration of its programs. We will disclose information under this routine use only in situations in which we may enter into a contractual or similar agreement to obtain assistance in accomplishing an agency function relating to this system of records.

4. To the National Archives and Records Administration (NARA) under 44 U.S.C. 2904 and 2906.

5. To student volunteers, individuals working under a personal services contract, and other workers who technically do not have the status of Federal employees, when they are performing work for us, as authorized by law, and they need access to personally identifiable information (PII) in our records in order to perform their assigned agency functions.

6. To appropriate agencies, entities, and persons when:

(a) SSA suspects or has confirmed that there has been a breach of the system of records;

(b) SSA has determined that as a result of the suspected or confirmed breach there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

7. To another Federal agency or Federal entity, when we determine that information from this system of records is reasonably necessary to assist the recipient agency or entity in:

(a) responding to a suspected or confirmed breach; or

(b) preventing, minimizing, or remedying the risk of harm to individuals, the recipient agency or entity (including its information systems, programs, and operations), the Federal Government, or national security, resulting from a suspected or confirmed breach.

8. To the Secretary of Health and Human Services or to any State, the Commissioner shall disclose any record or information requested in writing by the Secretary for the purpose of administering any program administered by the Secretary, if records or information of such type were so disclosed under applicable rules, regulations and procedures in effect before the date of enactment of the Social Security Independence and Program Improvements Act of 1994.

9. To the Office of the President, in response to an inquiry received from that office made on behalf of, and at the request of, the subject of the record or a third party acting on the subject's behalf.

10. To Federal, State, and local law enforcement agencies and private security contractors as appropriate, if necessary:

(a) to enable them to protect the safety of SSA employees and customers, the security of the SSA workplace, and the operation of our facilities, or

(b) to assist investigations or prosecutions with respect to activities that affect such safety and security, or activities that disrupt the operation of our facilities.

11. To third party contacts (e.g., employers and private pension plans) in situations where the party to be contacted has, or is expected to have, information relating to the individual's capability to manage their benefits or payments, or their eligibility for or entitlement to benefits or eligibility for payments, under the Social Security program when:

(a) The individual is unable to provide information being sought. An individual is considered to be unable to provide certain types of information when:

i. The individual is incapable or of questionable mental capability;

ii. The individual cannot read or write;

iii. The individual cannot afford the cost of obtaining the information;

iv. The custodian of the information will not, as a matter of policy, provide it to the individual; or

(b) the data is necessary to establish the validity of evidence or to verify the accuracy of information presented by the individual, and it concerns one or more of the following:

i. The individual's entitlement to or eligibility for benefits under the Social Security program;

ii. The amount of the individual's benefit or payment; or

iii. Any case in which the evidence is being reviewed, as a result of suspected abuse or fraud, or concern for program integrity, quality appraisal, or evaluation and measurement activities.

12. To third party contacts, where necessary, to establish or verify information provided by representative payees or representative payee applicants.

13. To a Social Security beneficiary or claimant, when a claim is filed by an individual on the same record adverse to the beneficiary, only information concerning the facts relevant to the interests of each party in a claim, i.e.,

(a) an award of benefits to a new claimant precludes an award to a prior claimant; or

(b) an award of benefits to a new claimant will reduce benefit payments to the individual(s) on the rolls, but only for information concerning the facts relevant to the interests of each party in a claim.

14. To private medical and vocational consultants, for use in preparing for, or evaluating the results of, consultative medical examinations or vocational assessments which they were engaged to perform by SSA or a State agency, in accordance with sections 221 or 1633 of the Social Security Act.

15. To claimants, prospective claimants (other than the data subject), and their appointed representatives and those working with such representatives (including, but not limited to, partners, associates, and contractors) when the information pertains to the individuals whom the appointed representative is representing; and to representative payees, when the information pertains to individuals for whom they serve as representative payees, for the purpose of assisting us in administering representative payment responsibilities under the Social Security Act, to the extent necessary to pursue Social Security claims, and for the purpose of assisting them in performing their duties as payees, including receiving and accounting for benefits for individuals for whom they serve as payees.

16. To contractors, cooperative agreement awardees, State agencies, Federal agencies, and Federal congressional support agencies for research and statistical activities that are designed to increase knowledge about present or alternative Social Security programs; are of importance to the Social Security program or the Social Security beneficiaries; or are for an epidemiological project that relates to the Social Security program or beneficiaries. We will disclose information under this routine use pursuant only to a written agreement with us.

17. To State and local government agencies, in situations involving suspected abuse, neglect, or exploitation of minor children or vulnerable adults, to report suspected abuse or determine a victim's eligibility for services.

18. To a representative (current or former), the executor of a deceased representative's estate or individual recognized by the State as the representative of the estate, an individual who provided representational services, the entity with which the representative or individual is or was affiliated through registration, or an individual or entity to which the agency disbursed a fee payment, to the extent necessary to dispose of a fee petition or fee agreement or resolve other fee-related issues in claims-related matters, but not to include pre-decisional deliberative documents, such as analyses and recommendations prepared for the decision-maker.

19. Limited information to third parties as necessary to reach claimants, beneficiaries, and others SSA has a business need to reach related to records in this system.

20. To third parties when an individual involved with a request needs assistance to communicate because of a hearing impairment or a language barrier (e.g., to interpreters, telecommunications relay system operators).

POLICIES AND PRACTICES FOR STORAGE OF RECORDS:

We will maintain records in this system in paper and electronic form.

POLICIES AND PRACTICES FOR RETRIEVAL OF RECORDS:

We will retrieve records by SSN, name, and folder number.

POLICIES AND PRACTICES FOR RETENTION AND DISPOSAL OF RECORDS:

In accordance with NARA rules codified at 36 CFR 1225.16, we maintain records in accordance with agency-wide Leadership Bucket, DAA-0047-2024-0001, and agency-wide Legal Bucket, DAA-0047-2022-0003.

ADMINISTRATIVE, TECHNICAL, AND PHYSICAL SAFEGUARDS:

We retain electronic files containing personal identifiers in secure storage areas accessible only by authorized individuals, including our employees and contractors, who have a need for the information when performing their official duties. Security measures include, but are not limited to, the use of codes and profiles, personal identification numbers and passwords, and personal identification verification cards. We restrict access to specific correspondence within the system based on assigned roles and authorized users. We use audit mechanisms to record sensitive transactions as an additional measure to protect information from unauthorized disclosure or modification. We keep paper records in cabinets within secure areas, with access limited to only those employees who have an official need for access in order to perform their duties.

We annually provide authorized individuals, including our employees and contractors, with appropriate security awareness training that includes reminders about the need to protect PII and the criminal penalties that apply to unauthorized access to, or disclosure of, PII (5 U.S.C. 552a(i)(1)). Furthermore, authorized individuals with access to databases maintaining PII must annually sign a sanctions document that acknowledges their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include: (1) a notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40, 401.45, and 401.55.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as record access procedures. These procedures are in accordance with our regulations at 20 CFR 401.40, 401.45, and 401.55.

EXEMPTIONS PROMULGATED FOR THE SYSTEM:

None.

HISTORY:

47 FR 45589 (October 13, 1982), Hearings and Appeals Case Control System.

48 FR 37526 (August 18, 1983), Hearings and Appeals Case Control System.

51 FR 8243 (March 10, 1986), Hearings and Appeals Case Control System.

52 FR 12084 (April 14, 1987), Hearings and Appeals Case Control System.

59 FR 46439 (September 8, 1994), Hearings and Appeals Case Control System.

65 FR 46997 (August 1, 2000), Hearings and Appeals Case Control System.

72 FR 69723 (December 10, 2007), Hearings and Appeals Case Control System.

83 FR 54969 (November 1, 2018), Hearings and Appeals Case Control System.

[FR Doc. 2026-00132 Filed 1-7-26; 8:45 am]

BILLING CODE 4191-02-P